INTERNATIONAL TRADE COMMISSION

[USITC SE-03-022]

Sunshine Act Meeting

AGENCY: United States International Trade Commission.

Time and date: July 18, 2003 at 9:30 a.m.

Place: Room 101, 500 E Street SW., Washington, DC 20436, Telephone: (202) 205-2000.

Status: Open to the public.

Matters to be considered: 1. Agenda for future meetings: none.

2. Minutes.

3. Ratification List.

4. Inv. Nos. 701-TA-436 and 731-TA-1042 (Preliminary)(Certain Colored Synthetic Organic Oleoresinous Pigment Dispersions from India)—briefing and vote. (The Commission is currently scheduled to transmit its determination to the Secretary of Commerce on or before July 21, 2003; Commissioners' opinions are currently scheduled to be transmitted to the Secretary of Commerce on or before July 28, 2003.)

5. Outstanding action jackets: none.

In accordance with Commission policy, subject matter listed above, not disposed of at the scheduled meeting, may be carried over to the agenda of the following meeting.

Issued: July 7, 2003.
By order of the Commission.
Marilyn R. Abbott,
Secretary to the Commission.

[FR Doc. 03-17571 Filed 7-8-03; 10:48 am]

BILLING CODE 7020-02-P